DEPARTMENT OF THE INTERIOR

Bureau of Reclamation

Closure Order Establishing Prohibitions at Shasta Lake, California

ACTION: Notice of closure.

SUMMARY: Purpose of Closure Order: This closure is issued to provide for the protection of federal property and to ensure public safety at Reclamation facilities.

Closure Areas: The following facilities, lands, and waters are closed to the public: Shasta Dam Blvd. and Lake Blvd. roadways entering onto Reclamation property, the public parking lot immediately east of Shasta Dam, the crest of Shasta Dam, and adjacent property, building, and facilities under the control of Reclamation. The closure area includes the area within 1,000 feet upstream and 750 feet downstream of Shasta Dam for the entire width of the reservoir surface at high mean water upstream, and 750 feet on either side of the entire width of the dam downstream.

Dates and Times of Closure: The entire closure area is to remain closed effective August 25, 2004, and remain closed indefinitely except as permitted as described below between the hours of 6 a.m. to 10 p.m. everyday.

ADDRESSES: A map is available for inspection at the Reclamation's Northern California Area Office, located at 16349 Shasta Dam Blvd., Shasta Lake, California, 96019.

FOR FURTHER INFORMATION CONTACT: Bureau of Reclamation, Mid-Pacific Region Public Affairs Office at 916-978-5100.

SUPPLEMENTARY INFORMATION: Prohibited Acts: The following acts are prohibited in the closure area.

(A) Operating a motorized vehicle of any kind, including stopping, standing, or parking in the closure area.

Exceptions: Motor vehicles may be operated within that portion of the closure area that includes the open parking lot immediately east of Shasta Dam in compliance with all signs and other directions posted or disclosed. This limited exception to the closure order may be revoked at any time to meet operational, security, or safety concerns as determined by the area manager or his/her designee. Also excepted are Reclamation employees acting within the scope of their employment; operations, maintenance, and construction personnel that have express authorization from Reclamation; law enforcement and fire department officials; and others who have received express written authorization from Reclamation to enter the closure area.

(B) Entering the closure area on foot, on bicycle, or by any other means.

Exceptions: Pedestrians and bicyclists may enter that portion of the closure area that includes the open parking lot immediately east of Shasta Dam, the visitor's center and the walkway across the dam as part of an officially approved tour group. All persons shall comply with all signs and other directions as posted or disclosed. This limited exception to the closure order may be revoked at any time to meet operational, security, or safety concerns as determined by the area manager or his/her designee.

(C) Operating a vessel, swimming, or scuba diving.

Exceptions: Reclamation employees acting within the scope of their employment; operations, maintenance, and construction personnel that have express authorization from Reclamation; law enforcement and fire department officials; and other who have received express written authorization from Reclamation to enter the closure area.

(D) Carrying or discharging firearms.

Exceptions: Law Enforcement, i.e. Federal, state, and local agencies and others who have received express written authorization from Reclamation to enter the closure area.

(E) Carrying or using any other type of weapons.

(F) Fires

Exceptions: Barbeques may be used on the lawn of the closure area immediately east of Shasta Dam. This limited exception to the closure order may be revoked at any time to meet operational, security, or safety concerns as determined by the area manager or his/her designee.

(G) Vandalism or destroying, injuring, defacing, or damaging property or real property that is not under one's lawful control or possession.

This order is posted in accordance with 43 CFR 423.3(b). Violation of this prohibition or any prohibition listed in 43 CFR 423 is punishable by fine or imprisonment for not more that 6 months, or both.

Dated: August 18, 2004.
Michael J. Ryan,
Area Manager, Northern California Area Office, Mid-Pacific Region.

[FR Doc. 04-19427 Filed 8-24-04; 8:45 am]

BILLING CODE 4310-MN-P